DEPARTMENT OF COMMERCE

National Oceanic and Atmospheric Administration

50 CFR Part 660

[I.D. 112106C]

Pacific Fishery Management Council; Groundfish Allocation Committee Public Meeting

AGENCY: National Marine Fisheries Service (NMFS), National Oceanic and Atmospheric Administration (NOAA), Commerce.

ACTION: Notice of public meetings.

SUMMARY: The Pacific Fishery Management Council's (Council) Groundfish Allocation Committee(GAC) will hold a working meeting which is open to the public.

DATES: The GAC working meeting will begin Tuesday, December 12, 2006, at 8:30 a.m. and may go into the evening if necessary to complete business for the day. The meeting will reconvene at 8:30 a.m. Wednesday, December 13, 2006, and continue until business for the day is complete; and will reconvene at 8:30 a.m. on Thursday, December 14, 2006, and adjourn by 4 p.m.

ADDRESSES: The meeting will be held in Portland, Oregon, exact location to be determined. Contact the Council office for the meeting location address.

Council address: Pacific Fishery Management Council, 7700 NE Ambassador Place, Suite 101, Portland, OR 97220-1384.

FOR FURTHER INFORMATION CONTACT: Mr. Jim Seger, Staff Officer (Economist), 503-820-2280.

SUPPLEMENTARY INFORMATION: The purpose of the GAC meeting is to discuss the trawl individual quota alternatives under development by the Council. Specifically, the GAC will review alternatives; develop recommendations for the Council to narrow and refine the alternatives as analytical work on the environmental impact statement progresses; and develop recommendations on other aspects of the Council process for considering individual quotas for the trawl fishery.

Although nonemergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

The meeting is physically accessible to people with disabilities. Requests for sign language interpretation or other auxiliary aids should be directed to Ms. Carolyn Porter at (503) 820-2280 at least five days prior to the meeting date.

Authority: 16 U.S.C. 1801 et seq.

Dated: November 21, 2006.
James P. Burgess,
Acting Director, Office of Sustainable Fisheries, National Marine Fisheries Service.

[FR Doc. E6-20163 Filed 11-27-06; 8:45 am]

BILLING CODE 3510-22-S